DEPARTMENT OF THE INTERIOR

National Park Service

[NPS-WASO-NAGPRA-18014; PPWOCRADN0-PCU00RP14.R50000]

Notice of Intent To Repatriate Cultural Items: U.S. Department of the Interior, National Park Service, Big Cypress National Preserve, Ochopee, FL

AGENCY: National Park Service, Interior.

ACTION: Notice.

SUMMARY: The U.S. Department of the Interior, National Park Service, Big Cypress National Preserve, in consultation with the appropriate Indian tribes or Native Hawaiian organizations, has determined that the cultural items listed in this notice meet the definition of unassociated funerary objects. Lineal descendants or representatives of any Indian tribe or Native Hawaiian organization not identified in this notice that wish to claim these cultural items should submit a written request to Big Cypress National Preserve. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Big Cypress National Preserve at the address in this notice by May 28, 2015.

ADDRESSES: J.D. Lee, Superintendent, Big Cypress National Preserve, 33110 Tamiami Trail East, Ochopee, FL 34141, telephone (239) 695-1103, email j_d_lee@nps.gov.

SUPPLEMENTARY INFORMATION: Notice is here given in accordance with the Native American Graves Protection and Repatriation Act (NAGPRA), 25 U.S.C. 3005, of the intent to repatriate cultural items under the control of the U.S. Department of the Interior, National Park Service, Big Cypress National Preserve, Ochopee, FL, that meet the definition of unassociated funerary objects under 25 U.S.C. 3001.

This notice is published as part of the National Park Service's administrative responsibilities under NAGPRA, 25 U.S.C. 3003(d)(3). The determinations in this notice are the sole responsibility of the Superintendent, Big Cypress National Preserve.

History and Description of the Cultural Item(s)

On an unknown date prior to the establishment of Big Cypress National Preserve, 442 cultural items were removed from an unnamed site in Collier County, FL, by D.L. Houghton. In 1999, Mr. Houghton donated the objects to Big Cypress National Preserve and indicated to park staff the location of their removal. The whereabouts of the human remains is not known. The 442 unassociated funerary objects are 439 glass beads, 1 beaded silver bracelet, 1 wire beaded bracelet, and 1 metal knife.

The unnamed site exhibits evidence of historic Seminole/Miccosukee occupation including glass, metal, and a number of chickee structures. Both the Miccosukee Tribe of Indians and the Seminole Tribe of Florida (previously listed as the Seminole Tribe of Florida (Dania, Big Cypress, Brighton, Hollywood & Tampa Reservations)) have indicated that the items were types used in funerary contexts.

Determinations Made by Big Cypress National Preserve

Officials of Big Cypress National Preserve have determined that:

• Pursuant to 25 U.S.C. 3001(3)(B), the 442 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Miccosukee Tribe of Indians and the Seminole Tribe of Florida (previously listed as the Seminole Tribe of Florida (Dania, Big Cypress, Brighton, Hollywood & Tampa Reservations)).

Additional Requestors and Disposition

Lineal descendants or representatives of any Indian tribe or Native Hawaiian organization not identified in this notice that wish to claim these cultural items should submit a written request with information in support of the claim to J.D. Lee, Superintendent, Big Cypress National Preserve, 33110 Tamiami Trail East, Ochopee, FL 34141, telephone (239) 695-1103, email j_d_lee@nps.gov, by May 28, 2015. After that date, if no additional claimants have come forward, transfer of control of the unassociated funerary objects to the Miccosukee Tribe of Indians and the Seminole Tribe of Florida (previously listed as the Seminole Tribe of Florida (Dania, Big Cypress, Brighton, Hollywood & Tampa Reservations)) may proceed.

Big Cypress National Preserve is responsible for notifying the Miccosukee Tribe of Indians and the Seminole Tribe of Florida (previously listed as the Seminole Tribe of Florida (Dania, Big Cypress, Brighton, Hollywood & Tampa Reservations)) that this notice has been published.

Dated: March 26, 2015.
Mariah Soriano,
Acting Manager, National NAGPRA Program.

[FR Doc. 2015-09942 Filed 4-27-15; 8:45 am]

BILLING CODE 4312-50-P